DEPARTMENT OF LABOR

Employment and Training Administration

[TA-W-61,251, TA-W-61,251A, TA-W-61,251B, and TA-W-61,251C]

Mount Vernon Mills, Inc., Johnston, SC, Including Employees of Mount Vernon Mills, Inc., Johnston, SC Located at the Following Locations: Cincinnati, OH, Roslyn Heights, NY, and Fairview, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on May 8, 2007, applicable to workers of Mount Vernon Mills, Inc., Johnston, South Carolina. The notice will be published soon in the Federal Register.

At the request of a company official, the Department reviewed the certification for workers of the subject firm.

New information shows that worker separations have occurred involving employees of the Johnston, South Carolina facility of Mount Vernon Mills, Inc. working out of Cincinnati, Ohio, Roslyn Heights, New York and Fairview, North Carolina. These employees provided design and sales function services for the production of baby bedding products produced by the subject firm.

Based on these findings, the Department is amending this certification to include employees of the Johnston, South Carolina facility of Mount Vernon Mills, Inc. working out of Cincinnati, Ohio, Roslyn Heights, New York and Fairview, North Carolina.

The intent of the Department's certification is to include all workers of Mount Vernon Mills, Inc., Johnston, South Carolina who were adversely affected by increased company imports.

The amended notice applicable to TA-W-61,251 is hereby issued as follows:

All workers of Mount Vernon Mills, Inc., Johnston, South Carolina (TA-W-61,251), including employees of Mount Vernon Mills, Inc., Johnston, South Carolina located in Cincinnati, Ohio (TA-W-61,251A), Roslyn Heights, New York (TA-W-61,251B), and Fairview, North Carolina (TA-W-61,251C), who became totally or partially separated from employment on or after January 22, 2007, through May 8, 2009, are eligible to apply for adjustment assistance under Section 223 of the Trade Act of 1974, and are also eligible to apply for alternative trade adjustment assistance under Section 246 of the Trade Act of 1974.

Signed at Washington, DC, this 21st day of May 2007.
Richard Church,
Certifying Officer, Division of Trade Adjustment Assistance.

[FR Doc. E7-10852 Filed 6-5-07; 8:45 am]

BILLING CODE 4510-FN-P